DEPARTMENT OF ENERGY

Federal Energy Regulatory Commission

Combined Notice of Filings

Take notice that the Commission has received the following Natural Gas Pipeline Rate and Refund Report filings:

Filings Instituting Proceedings

Docket Numbers: CP19-103-000.

Applicants: Columbia Gas Transmission, LLC.

Description: Abbreviated Application of Columbia Gas Transmission, LLC for Authorization to Abandon Exchange Service under Rate Schedule X-130.

Filed Date: 3/1/19.

Accession Number: 20190301-5263.

Comments Due: 5 p.m. ET 3/13/19.

Docket Numbers: CP19-104-000.

Applicants: Texas Eastern Transmission, LP.

Description: Abbreviated Application for Authorization to Abandon Exchange Service (Rate Schedule X-128) of Texas Eastern Transmission, LP.

Filed Date: 3/1/19.

Accession Number: 20190301-5354.

Comments Due: 5 p.m. ET 3/13/19.

Docket Number: PR19-46-000.

Applicants: The Brooklyn Union Gas Company.

Description: Tariff filing per 284.123(b),(e)/: REVISED STATEMENT OF OPERATING CONDITIONS to be effective 5/1/2019.

Filed Date: 3/4/19.

Accession Number: 201903045129.

Comments/Protests Due: 5 p.m. ET 3/25/19.

Docket Number: PR19-47-000.

Applicants: KeySpan Gas East Corporation.

Description: Tariff filing per 284.123(b),(e)/: REVISED STATEMENT OF OPERATING CONDITIONS to be effective 5/1/2019.

Filed Date: 3/4/19.

Accession Number: 201903045151.

Comments/Protests Due: 5 p.m. ET 3/25/19.

Docket Numbers: RP19-809-000.

Applicants: Texas Eastern Transmission, LP.

Description: § 4(d) Rate Filing: PAL NRA-NJR Energy Deal 951952 eff 3-7-19 to be effective 3/7/2019.

Filed Date: 3/6/19.

Accession Number: 20190306-5135.

Comments Due: 5 p.m. ET 3/18/19.

Docket Numbers: RP19-810-000.

Applicants: Tallgrass Interstate Gas Transmission, L, Trailblazer Pipeline Company LLC, Rockies Express Pipeline LLC.

Description: Request for Temporary Waiver and Extension of Time to Implement Certain NAESB Order No. 587-Y Standards of the Tallgrass Pipelines under RP19-810, et al.

Filed Date: 3/6/19.

Accession Number: 20190306-5145.

Comments Due: 5 p.m. ET 3/13/19.

Docket Numbers: RP19-811-000.

Applicants: Tallgrass Interstate Gas Transmission, L, Trailblazer Pipeline Company LLC, Rockies Express Pipeline LLC.

Description: Request for Temporary Waiver and Extension of Time to Implement Certain NAESB Order No. 587-Y Standards of the Tallgrass Pipelines under RP19-810, et al.

Filed Date: 3/6/19.

Accession Number: 20190306-5145.

Comments Due: 5 p.m. ET 3/13/19.

Docket Numbers: RP19-812-000.

Applicants: Tallgrass Interstate Gas Transmission, L, Trailblazer Pipeline Company LLC, Rockies Express Pipeline LLC.

Description: Request for Temporary Waiver and Extension of Time to Implement Certain NAESB Order No. 587-Y Standards of the Tallgrass Pipelines under RP19-810, et al.

Filed Date: 3/6/19.

Accession Number: 20190306-5145.

Comments Due: 5 p.m. ET 3/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2019.
Kimberly D. Bose,
Secretary.

[FR Doc. 2019-04673 Filed 3-13-19; 8:45 am]

BILLING CODE 6717-01-P